COMMISSION ON CIVIL RIGHTS

Agenda and Notice of Public Meeting of the New Jersey Advisory Committee

Notice is hereby given, pursuant to the provisions of the rules and regulations of the U.S. Commission on Civil Rights and the Federal Advisory Committee Act, that an orientation meeting, briefing meeting, and planning meeting of the New Jersey Advisory Committee of the U.S. Commission on Civil Rights will convene at 10 a.m. and adjourn at 3 p.m. on Friday, April 25, 2008, at the Legislative Annex of the State House, 125 West State Street, Room 1, Trenton, New Jersey 08625-0099.

The purpose of these meetings is to inform members about the rules and procedures applicable to federal advisory committee operations, to hear presentations from experts in fair housing and other civil rights matters in the state, and to discuss the committee's future project planning.

Members of the public are entitled to submit written comments; the comments must be received in the Eastern Regional Office by May 26, 2008. The address is 624 Ninth Street, NW., Washington, DC 20425. Persons wishing to e-mail their comments, or who desire additional information should contact Alfreda Greene, Secretary, 202-376-7533, TTY 202-376-8116 or by e-mail: agreene@usccr.gov.

Hearing impaired persons who will attend the meeting and require the service of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and the Federal Advisory Committee Act.

Dated in Washington, DC, April 3, 2008.
Christopher Byrnes,
Chief, Regional Programs Coordination Unit.

[FR Doc. E8-7411 Filed 4-8-08; 8:45 am]

BILLING CODE 6335-01-P